LEGAL SERVICES CORPORATION

Notice of Intent To Award—Grant Awards for the Provision of Civil Legal Services to Eligible Low-Income Clients Beginning January 1, 2012

AGENCY: Legal Services Corporation.

ACTION: Announcement of intention to make FY 2012 Competitive Grant Awards.

SUMMARY: The Legal Services Corporation (LSC) hereby announces its intention to award grants and contracts to provide economical and effective delivery of high quality civil legal services to eligible low-income clients, beginning January 1, 2012.

DATES: All comments and recommendations must be received on or before the close of business on December 5, 2011.

ADDRESSES: Legal Services Corporation—Competitive Grants, Legal Services Corporation; 3333 K Street NW., Third Floor, Washington, DC 20007.

FOR FURTHER INFORMATION CONTACT: Reginald Haley, Office of Program Performance, at (202) 295-1545, or haleyr@lsc.gov.

SUPPLEMENTARY INFORMATION: Pursuant to LSC's announcement of funding availability on March 30, 2011 (76 FR 17711), and Grant Renewal applications due beginning June 6, 2011, LSC intends to award funds to the following organizations to provide civil legal services in the indicated service areas. Amounts are subject to change.

Service area | Applicant name | Estimated annualized funding amount
Alabama
AL-4 | Legal Services Alabama, Inc | 7,090,822
MAL | Texas RioGrande Legal Aid, Inc | 36,315
Alaska
AK-1 | Alaska Legal Services Corporation | 820,885
NAK-1 | Alaska Legal Services Corporation | 598,212
American Samoa
AS-1 |  | 354,725
Arizona
AZ-2 | DNA-Peoples Legal Services, Inc | 595,687
AZ-3 | Community Legal Services, Inc | 4,299,659
AZ-5 | Southern Arizona Legal Aid, Inc | 2,073,760
MAZ | Community Legal Services, Inc | 163,871
NAZ-5 | DNA-Peoples Legal Services, Inc | 2,886,399
NAZ-6 | Southern Arizona Legal Aid, Inc | 705,063
Arkansas
MAR | Texas RioGrande Legal Aid, Inc | 87,239
AR-6 | Legal Aid of Arkansas, Inc | 1,651,500
AR-7 | Center for Arkansas Legal Services | 2,465,248
California
MCA | California Rural Legal Assistance, Inc | 2,913,644
CA-1 | California Indian Legal Services, Inc | 37,499
CA-12 | Inland Counties Legal Services, Inc | 4,628,830
CA-14 | Legal Aid Society of San Diego, Inc | 3,236,873
CA-19 | Legal Aid Society of Orange County, Inc | 4,521,039
CA-2 | Greater Bakersfield Legal Assistance, Inc | 1,041,775
CA-26 | Central California Legal Services | 3,259,303
CA-27 | Legal Services of Northern California, Inc | 4,027,385
CA-28 | Bay Area Legal Aid | 4,747,831
CA-29 | Legal Aid Foundation of Los Angeles | 9,001,639
CA-30 | Neighborhood Legal Services of Los Angeles County | 5,317,187
CA-31 | California Rural Legal Assistance, Inc | 5,313,655
NCA-1 | California Indian Legal Services, Inc | 977,253
Colorado
NCO-1 | Colorado Legal Services | 106,228
CO-6 | Colorado Legal Services | 3,807,036
MCO | Colorado Legal Services | 163,922
Connecticut
CT-1 | Statewide Legal Services of Connecticut, Inc | 2,631,089
NCT-1 | Pine Tree Legal Assistance, Inc | 17,316
Delaware
DE-1 | Legal Services Corporation of Delaware, Inc | 686,244
MDE | Legal Aid Bureau, Inc | 27,402
District of Columbia
DC-1 | Neighborhood Legal Services Program of the District of Columbia | 1,117,927
Florida
MFL | Florida Rural Legal Services, Inc | 991,259
FL-13 | Legal Services of North Florida, Inc | 1,609,039
FL-14 | Three Rivers Legal Services, Inc | 1,981,855
FL-15 | Community Legal Services of Mid-Florida, Inc | 3,421,020
FL-16 | Bay Area Legal Services, Inc | 2,902,751
FL-17 | Florida Rural Legal Services, Inc | 3,055,943
FL-18 | Coast to Coast Legal Aid of South Florida, Inc | 2,054,699
FL-5 | Legal Services of Greater Miami, Inc | 3,918,564
Georgia
GA-1 | Atlanta Legal Aid Society, Inc | 2,858,309
GA-2 | Georgia Legal Services Program | 7,263,340
MGA | Georgia Legal Services Program | 432,735
Guam
GU-1 | Guam Legal Services Corporation | 355,205
Hawaii
HI-1 | Legal Aid Society of Hawaii | 1,535,889
NHI-1 | Legal Aid Society of Hawaii | 253,377
Idaho
NID-1 | Idaho Legal Aid Services, Inc | 71,863
MID | Idaho Legal Aid Services, Inc | 206,301
ID-1 | Idaho Legal Aid Services, Inc | 1,312,160
Illinois
IL-3 | Land of Lincoln Legal Assistance Foundation, Inc | 2,732,040
IL-6 | Legal Assistance Foundation of Metropolitan Chicago | 7,131,567
IL-7 | Prairie State Legal Services, Inc | 3,050,960
MIL | Legal Assistance Foundation of Metropolitan Chicago | 275,520
Indiana
MIN | Indiana Legal Services, Inc | 125,494
IN-5 | Indiana Legal Services, Inc | 5,586,490
Iowa
MIA | Iowa Legal Aid | 41,644
IA-3 | Iowa Legal Aid | 2,592,457
Kansas
KS-1 | Kansas Legal Services, Inc | 2,632,274
Kentucky
KY-10 | Legal Aid of the Bluegrass | 1,401,084
KY-2 | Legal Aid Society | 1,300,522
KY-5 | Appalachian Research and Defense Fund of Kentucky | 2,244,277
KY-9 | Kentucky Legal Aid | 1,348,148
MKY | Texas RioGrande Legal Aid, Inc | 46,973
Louisiana
MLA | Texas RioGrande Legal Aid, Inc | 30,393
LA-1 | Southeast Louisiana Legal Services Corporation | 1,564,128
LA-10 | Acadiana Legal Service Corporation | 2,215,527
LA-11 | Legal Services of North Louisiana, Inc | 2,078,711
LA-12 | Southeast Louisiana Legal Services Corporation | 2,800,575
Maine
ME-1 | Pine Tree Legal Assistance, Inc | 1,304,156
MMX-1 | Pine Tree Legal Assistance, Inc | 137,847
NME-1 | Pine Tree Legal Assistance, Inc | 71,295
Maryland
MMD | Legal Aid Bureau, Inc | 100,348
MD-1 | Legal Aid Bureau, Inc | 4,378,261
Massachusetts
MA-10 | Massachusetts Justice Project, Inc | 1,664,935
MA-11 | Volunteer Lawyers Project of the Boston Bar Association | 2,247,523
MA-12 | South Coastal Counties Legal Services | 1,007,421
MA-4 | Merrimack Valley Legal Services, Inc | 916,026
Michigan
MMI | Legal Services of South Central Michigan | 664,375
MI-12 | Legal Services of South Central Michigan | 1,410,191
MI-13 | Legal Aid and Defender Association, Inc | 4,223,354
MI-14 | Legal Services of Eastern Michigan | 1,512,366
MI-15 | Legal Aid of Western Michigan | 1,840,312
MI-9 | Legal Services of Northern Michigan, Inc | 779,353
NMI-1 | Michigan Indian Legal Services, Inc | 182,088
Micronesia
MP-1 | Micronesian Legal Services, Inc | 1,820,506
Minnesota
MN-1 | Legal Aid Service of Northeastern Minnesota | 461,250
MN-4 | Legal Services of Northwest Minnesota Corporation | 413,398
MN-5 | Southern Minnesota Regional Legal Services, Inc | 1,343,462
MN-6 | Central Minnesota Legal Services, Inc | 1,445,485
MMN | Southern Minnesota Regional Legal Services, Inc | 220,829
NMN-1 | Anishinabe Legal Services, Inc | 264,344
Mississippi
NMS-1 | Choctaw Legal Defense | 91,949
MMS | Texas RioGrande Legal Aid, Inc | 62,992
MS-10 | Mississippi Center for Legal Services | 3,317,650
MS-9 | North Mississippi Rural Legal Services, Inc | 2,214,904
Missouri
MO-3 | Legal Aid of Western Missouri | 1,959,986
MO-4 | Legal Services of Eastern Missouri, Inc | 2,163,908
MO-5 | Mid-Missouri Legal Services Corporation | 431,367
MO-7 | Legal Services of Southern Missouri | 1,867,295
MMO | Legal Aid of Western Missouri | 89,914
Montana
MMT | Montana Legal Services Association | 60,246
MT-1 | Montana Legal Services Association | 1,250,179
NMT-1 | Montana Legal Services Association | 176,126
Nebraska
NNE-1 | Legal Aid of Nebraska | 36,563
NE-4 | Legal Aid of Nebraska | 1,599,789
MNE | Legal Aid of Nebraska | 46,667
Nevada
NV-1 | Nevada Legal Services, Inc | 2,099,916
NNV-1 | Nevada Legal Services, Inc | 147,087
New Hampshire
NH-1 | Legal Advice & Referral Center, Inc | 790,767
New Jersey
MNJ | South Jersey Legal Services, Inc | 133,181
NJ-12 | Ocean-Monmouth Legal Services, Inc | 734,922
NJ-15 | Legal Services of Northwest Jersey | 433,592
NJ-16 | South Jersey Legal Services, Inc | 1,476,072
NJ-17 | Central Jersey Legal Services, Inc | 1,204,829
NJ-18 | Northeast New Jersey Legal Services Corporation | 1,960,701
NJ-8 | Essex-Newark Legal Services Project, Inc | 1,199,878
New Mexico
NM-1 | DNA-Peoples Legal Services, Inc | 239,583
NM-5 | New Mexico Legal Aid | 3,022,221
NNM-2 | DNA-Peoples Legal Services, Inc | 25,129
NNM-4 | New Mexico Legal Aid | 513,951
MNM | New Mexico Legal Aid | 96,397
New York
MNY | Legal Aid Society of Mid-New York, Inc | 305,516
NY-20 | Legal Services of the Hudson Valley | 1,974,810
NY-21 | Legal Aid Society of Northeastern New York, Inc | 1,483,208
NY-22 | Legal Aid Society of Mid-New York, Inc | 1,944,131
NY-23 | Legal Assistance of Western New York, Inc | 1,905,785
NY-24 | Neighborhood Legal Services, Inc | 1,484,005
NY-7 | Nassau/Suffolk Law Services Committee, Inc | 1,535,245
NY-9 | Legal Services NYC | 16,853,009
North Carolina
MNC | Legal Aid of North Carolina, Inc | 591,552
NC-5 | Legal Aid of North Carolina, Inc | 9,195,842
NNC-1 | Legal Aid of North Carolina, Inc | 241,409
North Dakota
NND-3 | Legal Services of North Dakota | 297,960
ND-3 | Legal Services of North Dakota | 622,017
MND | Southern Minnesota Regional Legal Services, Inc | 127,934
Ohio
MOH | Legal Aid of Western Ohio, Inc | 139,031
OH-17 | Ohio State Legal Services | 1,885,131
OH-18 | Legal Aid Society of Greater Cincinnati | 1,589,753
OH-20 | Community Legal Aid Services, Inc | 1,839,322
OH-21 | The Legal Aid Society of Cleveland | 2,340,183
OH-23 | Legal Aid of Western Ohio, Inc | 2,751,325
OH-5 | Ohio State Legal Services | 1,407,353
Oklahoma
OK-3 | Legal Aid Services of Oklahoma, Inc | 4,946,137
MOK | Legal Aid Services of Oklahoma, Inc | 69,066
NOK-1 | Oklahoma Indian Legal Services, Inc | 905,688
Oregon
NOR-1 | Legal Aid Services of Oregon | 204,192
MOR | Legal Aid Services of Oregon | 614,809
OR-6 | Legal Aid Services of Oregon | 3,353,985
Pennsylvania
PA-1 | Philadelphia Legal Assistance Center | 3,387,502
PA-11 | Southwestern Pennsylvania Legal Services, Inc | 611,440
PA-23 | Legal Aid of Southeastern Pennsylvania | 1,243,870
PA-24 | North Penn Legal Services, Inc | 1,984,254
PA-25 | MidPenn Legal Services, Inc | 2,427,504
PA-26 | Northwestern Legal Services | 800,640
PA-5 | Laurel Legal Services, Inc | 841,600
PA-8 | Neighborhood Legal Services Association | 1,834,482
MPA | Philadelphia Legal Assistance Center | 182,932
Puerto Rico
MPR | Puerto Rico Legal Services, Inc | 320,901
PR-1 | Puerto Rico Legal Services, Inc | 17,868,474
PR-2 | Community Law Office, Inc | 378,288
Rhode Island
RI-1 | Rhode Island Legal Services, Inc | 1,228,770
South Carolina
SC-8 | South Carolina Legal Services, Inc | 5,375,084
MSC | Georgia Legal Services Program | 218,317
MSC | South Carolina Legal Services, Inc | 218,317
South Dakota
SD-2 | East River Legal Services | 448,212
SD-4 | Dakota Plains Legal Services, Inc | 530,867
NSD-1 | Dakota Plains Legal Services, Inc | 1,032,795
Tennessee
TN-10 | Legal Aid Society of Middle Tennessee and the Cumberlands | 2,856,421
TN-4 | Memphis Area Legal Services, Inc | 1,569,049
TN-7 | West Tennessee Legal Services, Inc | 732,012
TN-9 | Legal Aid of East Tennessee | 2,396,764
MTN | Texas RioGrande Legal Aid, Inc | 70,006
Texas
MTX | Texas RioGrande Legal Aid, Inc | 1,533,122
TX-13 | Lone Star Legal Aid | 10,585,818
TX-14 | Legal Aid of NorthWest Texas | 8,352,006
TX-15 | Texas RioGrande Legal Aid, Inc | 11,357,903
NTX-1 | Texas RioGrande Legal Aid, Inc | 34,619
Utah
NUT-1 | Utah Legal Services, Inc | 91,002
UT-1 | Utah Legal Services, Inc | 2,031,615
MUT | Utah Legal Services, Inc | 74,865
Vermont
VT-1 | Legal Services Law Line of Vermont, Inc | 557,738
Virgin Islands
VI-1 | Legal Services of the Virgin Islands, Inc | 356,624
Virginia
MVA | Central Virginia Legal Aid Society, Inc | 174,080
VA-15 | Southwest Virginia Legal Aid Society, Inc | 905,674
VA-16 | Legal Aid Society of Eastern Virginia | 1,564,587
VA-17 | Virginia Legal Aid Society, Inc | 942,785
VA-18 | Central Virginia Legal Aid Society, Inc | 1,111,444
VA-19 | Blue Ridge Legal Services, Inc | 784,193
VA-20 | Legal Services of Northern Virginia, Inc | 1,221,134
Washington
MWA | Northwest Justice Project | 805,632
WA-1 | Northwest Justice Project | 5,446,285
NWA-1 | Northwest Justice Project | 315,101
West Virginia
WV-5 | Legal Aid of West Virginia, Inc | 3,224,060
Wisconsin
NWI-1 | Wisconsin Judicare, Inc | 171,585
WI-2 | Wisconsin Judicare, Inc | 972,331
WI-5 | Legal Action of Wisconsin, Inc | 3,537,100
MWI | Legal Action of Wisconsin, Inc | 100,491
Wyoming
NWY-1 | Legal Aid of Wyoming, Inc | 191,143
WY-4 | Legal Aid of Wyoming, Inc | 559,240

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2012.

Dated: October 28, 2011.
Janet LaBella,
Director, Office of Program Performance, Legal Services Corporation.

[FR Doc. 2011-28482 Filed 11-2-11; 8:45 am]

BILLING CODE 7050-01-P